DEPARTMENT OF THE INTERIOR

Bureau of Land Management

[BLM_MT_FRN_MO4500180327]

Notice of Availability of the Proposed Resource Management Plan and Final Environmental Impact Statement for the North Dakota Resource Management Plan Revision

AGENCY: Bureau of Land Management, Interior.

ACTION: Notice of availability.

SUMMARY: In compliance with the National Environmental Policy Act of 1969, as amended, and the Federal Land Policy and Management Act of 1976, as amended, the Bureau of Land Management (BLM) has prepared a proposed resource management plan (RMP) and final environmental impact statement (EIS) for the North Dakota Resource Management Plan Revision and by this notice is announcing the start of a 30-day protest period of the proposed RMP.

DATES: This notice announces a 30-day protest period to the BLM on the proposed RMP beginning with the date following the Environmental Protection Agency's (EPA) publication of its Notice of Availability (NOA) of the proposed RMP/final EIS in the Federal Register. The EPA usually publishes its NOAs on Fridays. Protests must be postmarked or electronically submitted on the BLM's ePlanning site during the 30-day protest period.

ADDRESSES: The proposed RMP and final EIS and other pertinent documents are available on the BLM ePlanning project website at eplanning.blm.gov/eplanning-ui/project/1505069/510 and at the North Dakota Field Office; address 99 23rd Avenue West, Suite A, Dickinson, ND 58601.

Instructions for filing a protest with the BLM for the North Dakota Resource Management Plan Revision can be found at: https://www.blm.gov/programs/planning-and-nepa/public-participation/filing-a-plan-protest and at 43 CFR 1610.5-2.

All protests must be submitted in writing through one of the following methods:

• Website: https://eplanning.blm.gov/eplanning-ui/project/1505069/510

• Regular and Overnight Mail: BLM Director, Attention: Protest Coordinator (HQ210), Denver Federal Center, Building 40 (Door W-4), Lakewood, CO 80215

FOR FURTHER INFORMATION CONTACT: Kristine Braun, telephone 701-227-7725; address 99 23rd Avenue West, Suite A, Dickinson, ND 58601; email kebraun@blm.gov. Individuals in the United States who are deaf, deafblind, hard of hearing, or have a speech disability may dial 711 (TTY, TDD, or TeleBraille) to access telecommunications relay services for contacting Ms. Kristine Braun. Individuals outside the United States should use the relay services offered within their country to make international calls to the point-of-contact in the United States.

SUPPLEMENTARY INFORMATION: The North Dakota proposed RMP provides a comprehensive land use plan that guides management on approximately 58,500 acres of BLM-managed public lands and 4.1 million acres of BLM-administered mineral estate in North Dakota. The planning area is currently managed under the 1988 North Dakota RMP, as amended. This planning effort would update management guidance and create a new North Dakota RMP.

The proposed RMP/final EIS evaluates five alternatives in detail. Alternative A is the No Action Alternative, which is the continuation of current management under the existing 1988 North Dakota RMP, as amended.

Alternative B (Preferred Alternative from the draft RMP/EIS) emphasizes sustaining the ecological integrity of habitats for all priority plant, wildlife, and fish species, while allowing appropriate development scenarios for resource uses. Under Alternative B, the BLM would close low oil and gas development potential areas and State-designated drinking water source protection areas to future Federal oil and gas leasing and would not allow future leasing for Federal coal outside of a 4-mile development area from existing mine permit boundaries. Where oil and gas are available for leasing, no surface occupancy, controlled surface use, or timing limitation stipulations would apply to most areas. Alternative B provides opportunities for recreation and improved access by designating one special recreation management area (SRMA) and two backcountry conservation areas (BCAs). It would manage for other social and scientific values by designating one area of critical environmental concern (ACEC). Alternative B would recommend three eligible wild and scenic rivers as suitable for designation.

Alternative B.1 is a sub-alternative to Alternative B that provides the same management opportunities and protections as found under Alternative B for all resources except coal. Under this alternative, future leasing of Federal coal would be further restricted by designating the area outside the approved permit boundaries at each coal mine (as of September 9, 2022) as unavailable for coal leasing.

Alternative C does not close any areas to future Federal oil and gas leasing, but more acres would be subject to no surface occupancy lease stipulations than Alternative A. Under Alternative C, fewer acres of Federal coal would be made unavailable for leasing than Alternative B, but more than Alternative A. Alternative C provides opportunities for recreation and improved access by also designating one SRMA and two BCAs, but with reduced size and/or management restrictions.

Alternative D is the proposed RMP and includes management direction from Alternatives A, B, and C. Alternative D carries forward many of the key allocations from Alternative B (the Preferred Alternative in the draft RMP/draft EIS) for oil, gas, and coal as well as the management direction establishing the SRMA, two BCAs, and designation of one ACEC. Alternative D would close low oil and gas development potential areas and State-designated drinking water source protection areas to future Federal oil and gas leasing and would make Federal coal minerals outside a 4-mile development area from existing mine permit boundaries unavailable for consideration for future leasing. Alternative D, however, adjusts fluid mineral lease stipulations for some wildlife habitat and would change some right-of-way exclusion areas to avoidance areas where the functionality of the habitat can be maintained by applying special stipulations and design features. Alternative D also adjusts the application of Coal Screen 4 to look for clusters of surface owner opposition in determining lands as unavailable for future consideration for leasing. Alternative D would not recommend any river as suitable for inclusion in the National Wild and Scenic River System due to segments being small, fragmented, and impractical to manage. Alternative D would also reduce some visual resource management classifications and would include approximately 100 acres as potentially available for disposal to allow for flexibility for transfer, exchange, or direct sale of a handful of small, scattered parcels without public access ranging in size from 0.1 -1.0 acres.

The North Dakota draft RMP/draft EIS public comment period began on January 20, 2023, was extended 30-days, and ended on May 22, 2023. The BLM held two in-person public meetings in Bowman and Dickinson, North Dakota, during the public comment period. The BLM considered and incorporated in the proposed RMP, as appropriate, comments received from the public, cooperating agencies, and internal BLM review.

Protest of the Proposed RMP

The BLM planning regulations state that any person who participated in the preparation of the RMP and has an interest that will or might be adversely affected by approval of the proposed RMP may protest its approval to the BLM Director. Protest on the proposed RMP constitutes the final opportunity for administrative review of the proposed land use planning decisions prior to the BLM adopting an approved RMP. Instructions for filing a protest regarding the proposed RMP with the BLM Director may be found online at https://www.blm.gov/programs/planning-and-nepa/public-participation/filing-a-plan-protest and at 43 CFR 1610.5-2. All protests must be in writing and mailed to the appropriate address or submitted electronically through the BLM ePlanning project website as set forth in the ADDRESSES section. Protests submitted by any other means will be invalid. The BLM Director will render a written decision on each protest. The Director's decision shall be the final decision of the Department of the Interior. Responses to valid protest issues will be compiled and documented in a Protest Resolution Report made available following the protest resolution online at: https://www.blm.gov/programs/planning-and-nepa/public-participation/protest-resolution-reports. After resolution of protests, the BLM will issue a Record of Decision and approved RMP.

Before including your phone number, email address, or other personal identifying information in your protest you should be aware that your entire protest—including your personal identifying information—may be made publicly available at any time. While you can ask us in your protest to withhold your personal identifying information from public review, we cannot guarantee that we will be able to do so.

(Authority: 40 CFR 1506.6, 40 CFR 1506.10, 43 CFR 1610.2, 43 CFR 1610.5)

Sonya Germann,
State Director.

[FR Doc. 2024-17402 Filed 8-8-24; 8:45 am]

BILLING CODE 4331-20-P